FEDERAL ACCOUNTING STANDARDS ADVISORY BOARD

Notice of AAPC Meeting for September 2002

Board Action

Pursuant to the Federal Advisory Committee Act (Pub. L. 92-463), as amended, and the FASAB Rules of Procedure, as amended in October, 1999, notice is hereby given that the Accounting and Auditing Policy Committee of the Federal Accounting Standards Advisory Board (FASAB) will meet on Friday, September 27, 2002, in room 2N30 of the GAO Building.

The purpose of the meeting is to discuss issues related to:

—Inter-Entity Costs, and

—Credit Reform Task Force

—A more detailed agenda can be obtained from the FASAB Web site (www.fasab.gov).

Any interested person may attend the meeting as an observer. Committee discussion and reviews are open to the public. GAO Building security requires advance notice of your attendance. For the September meeting, please notify FASAB by September 26 of your planned attendance by calling 202-512-7350.

FOR FURTHER INFORMATION CONTACT: Wendy Comes, Executive Director, 441 G St., NW., Mail Stop 6K17V, Washington, DC 20548, or call (202) 512-7350.

Authority: Federal Advisory Committee Act. Pub. L. 92-463.

Dated: September 6, 2002.
Wendy M. Comes,
Executive Director.

[FR Doc. 02-23122 Filed 9-11-02; 8:45 am]

BILLING CODE 1610-01-M